DEPARTMENT OF LABOR

Employment and Training Administration

[TA-W-65,157]

Alcoa, Inc., Alcoa, TN; Notice of Termination of Investigation

In accordance with Section 221 of the Trade Act of 1974, as amended, an investigation was initiated on February 6, 2009 in response to a petition filed by a Tennessee AFL-CIO Technical Assistance Program representative on behalf of workers of Alcoa, Inc., Alcoa, Tennessee.

The petitioner has requested that the petition be withdrawn. Consequently, the investigation has been terminated.

Signed in Washington, DC, this 17th day of March 2009.
Richard Church,
Certifying Officer, Division of Trade Adjustment Assistance.

[FR Doc. E9-6527 Filed 3-24-09; 8:45 am]

BILLING CODE 4510-FN-P